DEPARTMENT OF TRANSPORTATION

Federal Aviation Administration

14 CFR Part 39

[Docket No. 2003-NM-20-AD; Amendment 39-13041; AD 2003-02-51]

RIN 2120-AA64

Airworthiness Directives; Bombardier Model CL-600-2C10 (Regional Jet Series 700 and 701) Series Airplanes

AGENCY: Federal Aviation Administration, DOT.

ACTION: Final rule; request for comments.

SUMMARY: This document publishes in the Federal Register an amendment adopting airworthiness directive (AD) 2003-02-51 that was sent previously to all known U.S. owners and operators of Bombardier Model CL-600-2C10 (Regional Jet Series 700 and 701) series airplanes by individual notices. This AD requires an airplane flight manual (AFM) revision to introduce new quantity limitations for the center fuel tank and associated procedures; to limit flight to within 30 minutes of a suitable alternative airport; and to limit the center tank fuel quantity to 1,500 lbs. (680 kgs.) maximum at takeoff. This action is prompted by issuance of mandatory continuing airworthiness information by a civil airworthiness authority. The actions specified by this AD are intended to detect and correct discrepancies in the fuel distribution system, which could cause the center tank to overfill and fuel to leak from the center tank vent system or to become inaccessible, and could result in engine fuel starvation.

DATES: Effective February 10, 2003, to all persons except those persons to whom it was made immediately effective by emergency AD 2003-02-51, issued January 16, 2003, which contained the requirements of this amendment.

The incorporation by reference of certain publications listed in the regulations is approved by the Director of the Federal Register as of February 10, 2003.

Comments for inclusion in the Rules Docket must be received on or before March 7, 2003.

ADDRESSES: Submit comments in triplicate to the Federal Aviation Administration (FAA), Transport Airplane Directorate, ANM-114, Attention: Rules Docket No. 2003-NM-20-AD, 1601 Lind Avenue, SW., Renton, Washington 98055-4056. Comments may be inspected at this location between 9 a.m. and 3 p.m., Monday through Friday, except Federal holidays. Comments may be submitted via fax to (425) 227-1232. Comments may also be sent via the Internet using the following address: 9-anm-iarcomment@faa.gov. Comments sent via fax or the Internet must contain “Docket No. 2003-NM-20-AD” in the subject line and need not be submitted in triplicate. Comments sent via the Internet as attached electronic files must be formatted in Microsoft Word 97 for Windows or ASCII text.

The applicable service information may be obtained from Bombardier, Inc., Canadair, Aerospace Group, PO Box 6087, Station Centre-ville, Montreal, Quebec H3C 3G9, Canada. This information may be examined at the FAA, Transport Airplane Directorate, 1601 Lind Avenue, SW., Renton, Washington; or at the FAA, New York Aircraft Certification Office, 10 Fifth Street, Third Floor, Valley Stream, New York; or at the Office of the Federal Register, 800 North Capitol Street, NW., suite 700, Washington, DC.

FOR FURTHER INFORMATION CONTACT: Rodrigo J. Huete, Flight Test Pilot, Systems and Flight Test Branch, ANE-172, FAA, New York Aircraft Certification Office, 10 Fifth Street, Third Floor, Valley Stream, New York 11581; telephone (516) 256-7518; fax (516) 568-2716.

SUPPLEMENTARY INFORMATION: On January 16, 2003, the FAA issued emergency AD 2003-02-51, which is applicable to all Bombardier Model CL-600-2C10 (Regional Jet Series 700 and 701) series airplanes.

Background

Transport Canada Civil Aviation (TCCA), which is the airworthiness authority for Canada, advises that vibration and fuel line misalignment in the center tank has resulted in damage to fuel line couplings and cracks in the fuel feed lines. TCCA also advises that more recently four incidents have been reported of cracked fuel feed lines near the welded boss for the transfer ejector motive flow lines within the center fuel tank. The airplanes landed without incident. As a result of the fuel leakage into the center tank, an imbalance of fuel could occur within the fuel system and a significant amount of fuel may not be usable during flight. Discrepancies in the fuel distribution system, if not detected and corrected, could cause the center tank to overfill and fuel to leak from the center tank vent system or to become inaccessible, and could result in engine fuel starvation.

Explanation of Relevant Service Information

Bombardier has issued Canadair Temporary Revision (TR) RJ 700/42, dated January 14, 2003, which describes procedures for revising the Limitations, Normal Procedures, and Abnormal Procedures sections of the Airplane Flight Manual (AFM) to introduce new quantity limitations for the center fuel tank and associated procedures. TCCA classified this TR as mandatory and issued Canadian airworthiness directive CF-2003-01, dated January 15, 2003, in order to ensure the continued airworthiness of these airplanes in Canada.

FAA's Conclusions

This airplane model is manufactured in Canada and is type certificated for operation in the United States under the provisions of section 21.29 of the Federal Aviation Regulations (14 CFR 21.29) and the applicable bilateral airworthiness agreement. Pursuant to this bilateral airworthiness agreement, TCCA has kept the FAA informed of the situation described above. The FAA has examined the findings of TCCA, reviewed all available information, and determined that AD action is necessary for products of this type design that are certificated for operation in the United States.

Other Relevant Rulemaking

On May 7, 2002, the FAA issued AD 2002-08-19, amendment 39-12731 (67 FR 31939, May 13, 2002), applicable to all Bombardier Model CL-600-2C10 (Regional Jet Series 700 and 701) series airplanes. That AD requires revising the AFM to address uncommanded transfer of fuel between the wing fuel tanks and the center fuel tank; revising the Minimum Equipment List (MEL); limiting airplane operation; and increasing normal mission fuel requirements by 3,000 pounds. That AD also requires modification of the fuel distribution system for the center tank; an inspection of the system for discrepancies; and corrective actions if necessary.

This AD, however, addresses a newly identified failure mode in the fuel transfer system involving fuel leaks in the aft section of the center fuel tank, while the failure mode discussed in AD 2002-08-19 involves fuel leaks in the forward section of the center fuel tank.

Explanation of the Requirements of the Rule

Since the unsafe condition described is likely to exist or develop on other airplanes of the same type design registered in the United States, the FAA issued emergency AD 2003-02-51 to detect and correct discrepancies in the fuel distribution system, which could cause the center tank to overfill and fuel to leak from the center tank vent system or to become inaccessible, and could result in engine fuel starvation. The AD requires an AFM revision to introduce new quantity limitations for the center fuel tank and associated procedures; to limit flight to within 30 minutes of a suitable alternative airport; and to limit the center tank fuel quantity to 1,500 lbs. (680 kgs.) maximum at takeoff. This AD terminates certain requirements of AD 2002-08-19.

Since it was found that immediate corrective action was required, notice and opportunity for prior public comment thereon were impracticable and contrary to the public interest, and good cause existed to make the AD effective immediately by individual notices issued on January 16, 2003, to all known U.S. owners and operators of Bombardier Model CL-600-2C10 (Regional Jet Series 700 and 701) series airplanes. These conditions still exist, and the AD is hereby published in the Federal Register as an amendment to section 39.13 of the Federal Aviation Regulations (14 CFR 39.13) to make it effective as to all persons.

Interim Action

This is considered to be interim action until final action is identified, at which time the FAA may consider further rulemaking.

Comments Invited

Although this action is in the form of a final rule that involves requirements affecting flight safety and, thus, was not preceded by notice and an opportunity for public comment, comments are invited on this rule. Interested persons are invited to comment on this rule by submitting such written data, views, or arguments as they may desire. Communications shall identify the Rules Docket number and be submitted in triplicate to the address specified under the caption ADDRESSES. All communications received on or before the closing date for comments will be considered, and this rule may be amended in light of the comments received. Factual information that supports the commenter's ideas and suggestions is extremely helpful in evaluating the effectiveness of the AD action and determining whether additional rulemaking action would be needed.

Comments are specifically invited on the overall regulatory, economic, environmental, and energy aspects of the rule that might suggest a need to modify the rule. All comments submitted will be available, both before and after the closing date for comments, in the Rules Docket for examination by interested persons. A report that summarizes each FAA-public contact concerned with the substance of this AD will be filed in the Rules Docket.

Commenters wishing the FAA to acknowledge receipt of their comments submitted in response to this rule must submit a self-addressed, stamped postcard on which the following statement is made: “Comments to Docket Number 2003-NM-20-AD.” The postcard will be date stamped and returned to the commenter.

Regulatory Impact

The regulations adopted herein will not have a substantial direct effect on the States, on the relationship between the national Government and the States, or on the distribution of power and responsibilities among the various levels of government. Therefore, it is determined that this final rule does not have federalism implications under Executive Order 13132.

The FAA has determined that this regulation is an emergency regulation that must be issued immediately to correct an unsafe condition in aircraft, and that it is not a “significant regulatory action” under Executive Order 12866. It has been determined further that this action involves an emergency regulation under DOT Regulatory Policies and Procedures (44 FR 11034, February 26, 1979). If it is determined that this emergency regulation otherwise would be significant under DOT Regulatory Policies and Procedures, a final regulatory evaluation will be prepared and placed in the Rules Docket. A copy of it, if filed, may be obtained from the Rules Docket at the location provided under the caption ADDRESSES.

List of Subjects in 14 CFR Part 39

Air transportation, Aircraft, Aviation safety, Incorporation by reference, Safety.

Adoption of the Amendment

Accordingly, pursuant to the authority delegated to me by the Administrator, the Federal Aviation Administration amends part 39 of the Federal Aviation Regulations (14 CFR part 39) as follows:

PART 39—AIRWORTHINESS DIRECTIVES

1. The authority citation for part 39 continues to read as follows:

Authority: 49 U.S.C. 106(g), 40113, 44701.

§ 39.13 [Amended]

2. Section 39.13 is amended by adding the following new airworthiness directive:

2003-02-51 Bombardier, Inc. (Formerly Canadair): Amendment 39-13041. Docket 2003-NM-20-AD.

Applicability: Model CL-600-2C10 (Regional Jet Series 700 and 701) series airplanes, serial numbers (S/N) 10005 and subsequent; certificated in any category.

Note 1: This AD applies to each airplane identified in the preceding applicability provision, regardless of whether it has been modified, altered, or repaired in the area subject to the requirements of this AD. For airplanes that have been modified, altered, or repaired so that the performance of the requirements of this AD is affected, the owner/operator must request approval for an alternative method of compliance in accordance with paragraph (e) of this AD. The request should include an assessment of the effect of the modification, alteration, or repair on the unsafe condition addressed by this AD; and, if the unsafe condition has not been eliminated, the request should include specific proposed actions to address it.

Compliance: Required as indicated, unless accomplished previously.

To detect and correct discrepancies in the fuel distribution system, which could cause the center tank to overfill and fuel to leak from the center tank vent system or to 2 become inaccessible, and could result in engine fuel starvation, accomplish the following:

Revision of Airplane Flight Manual (AFM)

(a) Within 2 days after the effective date of this AD, revise the applicable Limitations, Normal Procedures, and Abnormal Procedures sections of Canadair Regional Jet Series 700 AFM CSP B-012 by incorporating Canadair Temporary Revision (TR) RJ 700/42, dated January 14, 2003, and operate the airplane in accordance with those limitations and procedures.

(b) When the information incorporating Canadair Temporary Revision RJ 700/42, dated January 14, 2003, has been incorporated into the general revisions of the AFM, the general revisions may be incorporated into the AFM, and these TRs may be removed from the AFM.

(c) Within 2 days after the effective date of this AD, revise the Limitations section of Canadair Regional Jet Series 700 AFM CSP B-012 to limit operation of the airplane to flight within 30 minutes of a suitable alternative airport. This action may be accomplished by inserting a copy of this AD into the Limitations section of the AFM. Accomplishment of this action constitutes terminating action for the AFM revision required by paragraphs (c) and (g) of AD 2002-08-19, amendment 12731.

(d) Within 2 days after the effective date of this AD, revise the Limitations section of Canadair Regional Jet Series 700 of AFM CSP B-012 to specify that, prior to each further flight, the center fuel quantity must be limited to 1,500 lbs. maximum at takeoff. This action may be accomplished by inserting a copy of this AD into the Limitations section of the AFM.

Alternative Methods of Compliance

(e) An alternative method of compliance or adjustment of the compliance time that provides an acceptable level of safety may be used if approved by the Manager, New York Aircraft Certification Office (ACO), FAA. Operators shall submit their requests through an appropriate FAA Principal Maintenance Inspector, who may add comments and then send it to the Manager, New York ACO.

Note 2: Information concerning the existence of approved alternative methods of compliance with this AD, if any, may be obtained from the New York ACO.

Special Flight Permits

(f) Special flight permits may be issued in accordance with sections 21.197 and 21.199 of the Federal Aviation Regulations (14 CFR 21.197 and 21.199) to operate the airplane to a location where the requirements of this AD can be accomplished, provided the limitations provided in paragraphs (f)(1), (f)(2), and (f)(3) of this AD are provided in the special flight permit:

(1) Normal mission fuel requirements must be increased by 3000 lbs.

(2) Operations must be within thirty (30) minutes of a suitable alternate airport.

(3) Center fuel tank limited to 1,500 lbs at takeoff.

Incorporation by Reference

(g) The AFM revision required by paragraph (a) of this AD shall be done in accordance with Canadair Temporary Revision RJ 700/42, dated January 14, 2003. This incorporation by reference was approved by the Director of the Federal Register in accordance with 5 U.S.C. 552(a) and 1 CFR part 51. Copies may be obtained from Bombardier, Inc., Canadair, Aerospace Group, PO Box 6087, Station Centre-ville, Montreal, Quebec H3C 3G9, Canada. Copies may be inspected at the FAA, Transport Airplane Directorate, 1601 Lind Avenue, SW., Renton, Washington; or at the FAA, New York Aircraft Certification Office, 10 Fifth Street, Third Floor, Valley Stream, New York; or at the Office of the Federal Register, 800 North Capitol Street, NW., suite 700, Washington, DC.

Note 3: The subject of this AD is addressed in Canadian airworthiness directive CF-2003-01, dated January 15, 2003.

Effective Date

(h) This amendment becomes effective on February 10, 2003, to all persons except those persons to whom it was made immediately effective by emergency AD 2003-02-51, issued January 16, 2003, which contained the requirements of this amendment.

Issued in Renton, Washington, on January 24, 2003.
Ali Bahrami,
Acting Manager, Transport Airplane Directorate, Aircraft Certification Service.

[FR Doc. 03-2151 Filed 2-4-03; 8:45 am]

BILLING CODE 4910-13-P